Proclamation 10264 of September 24, 2021

Gold Star Mother's and Family's Day, 2021

By the President of the United States of America

A Proclamation

Throughout our history, America's men and women in uniform have dedicated their lives and made the ultimate sacrifice to protect our freedom and the freedom of oppressed people around the world. They are the backbone of America, and make up the bravest, most capable, most selfless military on the face of the Earth. We witnessed that in the historic undertaking to evacuate more than 124,000 American citizens, the citizens of our allies and partners, our Afghan allies, and other at risk Afghans from Kabul, Afghanistan.

I am outraged by the vicious terrorist attack at the Kabul Airport that took the lives of our brave service members who were working to save the lives of others. My heart aches that this year we have more Gold Star families who must mourn their heroic loved ones. Our Nation is forever indebted to those who gave their last full measure of devotion to defend our peace and security. We are devastated by their loss and inspired by their sacrifice. When we remember these fallen service members, we must also honor the people who mourn their losses. We remember them every day, and on this day, we pay special tribute to their surviving families.

The families of our fallen men and women in uniform understand the true and painful price of freedom—coping with loss and unspeakable grief. And today, on Gold Star Mother's and Family's Day, we recognize their enduring pain and honor their resilience. We stand with them to preserve the legacy of their fallen loved ones and pledge that their memories and their sacrifices will never be forgotten.

Jill and I know the pride, but also the uncertainty and fear, that military families feel when their loved ones are deployed, wondering if they will return home. Whenever I deploy our troops into harm's way, I take that responsibility seriously. It is a burden that I carry every day. Every life lost in service to this country is an unspeakable tragedy, and while we as a Nation can never repay that debt, we have a sacred obligation to support those they leave behind.

To all of our surviving families, know that our entire Nation grieves with you. Know that there are resources available and ready to support you, and know that the American people will keep our sacred obligation to you and to the memory of your loved one. You represent the best of America, and we are grateful for your courage.

The Congress, by Senate Joint Resolution 115 of June 23, 1936 (49 Stat. 1895 as amended), has designated the last Sunday in September as “Gold Star Mother's Day.”

NOW, THEREFORE, I, JOSEPH R. BIDEN JR., President of the United States of America, by virtue of the authority vested in me by the Constitution and the laws of the United States, do hereby proclaim Sunday, September 26, 2021, as Gold Star Mother's and Family's Day. I call upon all Government officials to display the flag of the United States over Government buildings on this special day. I also encourage the American people to display the flag and hold appropriate ceremonies as a public expression of our Nation's gratitude and respect for our Gold Star Mothers and Families.

IN WITNESS WHEREOF, I have hereunto set my hand this twenty-fourth day of September, in the year of our Lord two thousand twenty-one, and of the Independence of the United States of America the two hundred and forty-sixth.

[FR Doc. 2021-21363

Filed 9-28-21; 11:15 am]

Billing code 3295-F1-P